DEPARTMENT OF HOMELAND SECURITY

Coast Guard

[Docket No. USCG-2014-0602]

Notice of Review and Update of the New York/New Jersey Area Contingency Plan

AGENCY: Coast Guard, DHS.

ACTION: Notice; Request for comments.

SUMMARY: The Coast Guard Captain of the Port, New York, as Chair of the New York/New Jersey Area Committee, announces the review of the New York/New Jersey Area Contingency Plan (NY/NJ ACP) and is seeking public comment on the NY/NJ ACP. The NY/NJ ACP is a plan prepared by the New York/New Jersey Area Committee to define roles, responsibilities, resources and procedures necessary to respond to a myriad of spill response evolutions. The New York/New Jersey Area Committee is composed of experienced environmental/response representatives from federal, state and local government agencies with definitive responsibilities for the area's environmental integrity. Other interested stakeholders, such as industry and environmental groups, also compose the NY/NJ Area Committee. The NY/NJ Area Committee is responsible for developing the NY/NJ ACP. This notice solicits comments and suggestions for updating the NY/NJ ACP.

DATES: Comments and related material must either be submitted to our online docket via http://www.regulations.gov on or before October 10, 2014 or reach the Docket Management Facility by that date.

ADDRESSES: The current NY/NJ ACP is the “Port of NY/NJ ACP 2011 Revision” and is available at http://homeport.uscg.mil/newyork in the “Safety and Security” block on the lower right of the page. Submit comments using one of the listed methods, and see SUPPLEMENTARY INFORMATION for more information on public comments.

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: For information about this document call or email LT Jeffrey J. Brooks, telephone 718-354-4070, email Jeffrey.j.brooks@uscg.mil. For information about viewing or submitting material to the docket, call Cheryl Collins, Program Manager, Docket Operations, telephone 202-366-9826, toll free 1-800-647-5527.

SUPPLEMENTARY INFORMATION: We encourage you to submit comments (or related material) on the NY/NJ ACP. We will consider all submissions and may revise the NY/NJ ACP based on the NY/NJ Area Committee's direction and your comments. Comments should be marked with docket number USCG-2014-0602 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008).

Mailed or hand-delivered comments should be in an unbound 8½ x 11 inch format suitable for reproduction. The Docket Management Facility will acknowledge receipt of mailed comments if you enclose a stamped, self-addressed postcard or envelope with your submission.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

Basis and Purpose

This ACP is required by Title IV, Section 4202 of the Oil Pollution Act of 1990, which amends Subsection (j) of Section 311 of the Federal Water Pollution Control Act (33 U.S.C. 1321 (j)), as amended by the Clean Water Act of 1977 (33 U.S.C. 1251 et. seq.) to address the development of a National Planning and Response System. This ACP is also written in conjunction with the National Oil and Hazardous Substance Pollution Contingency Plan (NCP) (40 CFR 300) and the Comprehensive Environmental Response, Compensation and Liability Act of 1980 (42 U.S.C. 9601) as amended by the Superfund Amendments and Reauthorization Act of 1986.

Under the National Contingency Plan (NCP) (40 CFR 300), the Coast Guard and Environmental Protection Agency (EPA) provide the leadership of the National Response Team (NRT), the Regional Response Teams (RRT) and local Area Committees to engage the National Response System to verify threats (spill potential), risks (resources that might be harmed in a spill), and establish the strategies necessary to prepare for and respond to a pollution incident or event. Pursuant to Executive Order 12777 of October 22, 1991, the EPA is responsible for the inland zone and the Coast Guard is responsible for the coastal zone. The Coast Guard and EPA are responsible for organizing and overseeing the NY/NJ Area Committee and the NY/NJ Area Committee is responsible for developing the NY/NJ ACP. ACPs are periodically reviewed and revised. The NY/NJ ACP is currently under review.

The coastal zone addressed by the NY/NJ ACP is situated within the boundaries of the RRT for Region 2 (RRT-II). At a meeting on April 9-10, 2014, in Albany, New York, a meeting of the RRT-II discussed response preparations for potential crude oil spills on the Hudson River with members from the NY/NJ Area Committee, numerous federal and state agencies, as well as attendees from private industry, nongovernmental organizations, the media and private citizens. The discussions that occurred at the RRT-II's April 9-10, 2014 meeting will be used in updating the NY/NJ ACP, as well as the results and lessons learned from the National Preparedness for Response Exercise Program (PREP) exercises of the ACP. The most recent full-scale PREP exercise was held on September 17, 2013 and was based upon a spill scenario in western Long Island Sound that impacted both New York and Connecticut.

Request for Comments

The Coast Guard is aware of reports of increased oil transport in the coastal zone covered by the NY/NJ ACP. We are also aware of an increased national trend to move oil via rail through the Coastal Zone. The Coast Guard is, therefore, particularly interested in receiving public comment regarding the transport of oil via rail through the coastal zone covered by the NY/NJ ACP. Public input will be used to assist the Coast Guard in determining response resource needs in updating the NY/NJ ACP.

The Coast Guard and EPA are working with representatives from the State of New York and other federal agencies of the NY/NJ Area Committee to schedule additional public engagement opportunities to obtain public input on the NY/NJ ACP. We will announce the time and place of any meetings by a later notice in the Federal Register. In accordance with 40 CFR 1506.6(b)(1), the Coast Guard will inform those persons who may be interested in participating in the NY/NJ Area Committee's update of the NY/NJ ACP. Individual contact information for updates on the NY/NJ ACP or an opportunity to participate in the NY/NJ Area Committee process should be provided to the person listed in the FOR FURTHER INFORMATION CONTACT paragraph by October 10, 2014.

This notice is issued under authority of 33 U.S.C. 1321(j) and, 5 U.S.C. 552(a).

Dated: July 17, 2014.
G.A. Loebl,
Captain, U.S. Coast Guard, Captain of the Port, New York.

[FR Doc. 2014-18867 Filed 8-8-14; 8:45 am]

BILLING CODE 9110-04-P